DEPARTMENT OF VETERANS AFFAIRS

[OMB Control No. 2900-0013]

Agency Information Collection Activity Under OMB Review: Application for United States Flag for Burial Purposes

AGENCY: Veterans Benefits Administration (VBA), Department of Veterans Affairs.

ACTION: Notice.

SUMMARY: In compliance with the Paperwork Reduction Act (PRA) of 1995, this notice announces that the VBA, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0013.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0013” in any correspondence.

SUPPLEMENTARY INFORMATION:

Authority: 38 U.S.C. 2301(f)(1)).

Title: Application for United States Flag for Burial Purposes, (VA Form 27-2008).

OMB Control Number: 2900-0013.

Type of Review: Extension of a currently approved collection.

Abstract: VA Form 27-2008 is primarily used for VA compensation and pension programs that require claimants to file an application for benefits subsequent to the death of the Veteran to determine eligibility for the benefit. Collection of this information is conducted at the time the next-of-kin or friend of a deceased Veteran requests a burial flag. Without the information collected by VA Form 27-2008, entitlement to the benefit could not be determined.

An agency may not conduct or sponsor, and a person is not required to respond to a collection of information unless it displays a currently valid OMB control number. The Federal Register Notice with a 60-day comment period soliciting comments on this collection of information was published at 89 FR 5310 on January 25, 2024.

Affected Public: Individuals or households.

Estimated Annual Burden: 535,500.

Estimated Average Burden per Respondent: 15 minutes.

Frequency of Response: One time per family of deceased Veteran.

Estimated Number of Respondents: 753,000.

By direction of the Secretary.
Dorothy Glasgow,
VA PRA Clearance Officer, (Alt.), Office of Enterprise and Integration, Data Governance Analytics, Department of Veterans Affairs.

[FR Doc. 2024-06799 Filed 3-29-24; 8:45 am]

BILLING CODE 8320-01-P